DEPARTMENT OF ENERGY

Federal Energy Regulatory Commission

[Docket No. RM26-3-000]

Authorizations for Certain Post-Licensing Activities at Hydroelectric Projects Notice Granting Extension of Time

On December 15, 2025, the National Hydropower Association (NHA) filed a motion requesting an extension of time from January 26, 2026, to February 25, 2026, to submit comments in response to the Notice of Inquiry (NOI) in this proceeding. NHA states that, given the significance of the NOI's questions to the hydropower industry, number of questions in the NOI, and the comment period falling over the holiday season, a 30-day extension will allow commenters to evaluate the questions posed by the Commission and provide comprehensive comments.¹ NHA asserts that the extension will not prejudice any interested party.

¹ Motion for Extension of Time at 2.

Given the request and importance of the issues raised by the NOI, upon consideration, notice is hereby given that the date for submitting comments on the NOI is hereby extended to and including February 10, 2026.

(Authority: 18 CFR 2.1.)

Dated: December 17, 2025.
Debbie-Anne A. Reese,
Secretary.

[FR Doc. 2025-23643 Filed 12-22-25; 8:45 am]

BILLING CODE 6717-01-P